DEPARTMENT OF HEALTH AND HUMAN SERVICES

National Institutes of Health

Center for Scientific Review; Amended Notice of Meeting

Notice is hereby given of a change in the meeting of the Center for Scientific Review Special Emphasis Panel, October 29, 2013, 08:00 a.m. to October 30, 2013, 05:00 p.m., National Institutes of Health, 6701 Rockledge Drive, Bethesda MD, 20892 which was published in the Federal Register on October 3, 2013, 78 FR 192 Pgs. 61376-61377.

The meeting will start on December 2, 2013 at 8:00 a.m. and end December 3, 2013 at 5:00 p.m. The meeting location remains the same. The meeting is closed to the public.

Dated: October 29, 2013.
Melanie J. Gray,
Program Analyst, Office of Federal Advisory Committee Policy.

[FR Doc. 2013-26186 Filed 11-1-13; 8:45 am]

BILLING CODE 4140-01-P